DEPARTMENT OF THE INTERIOR

Fish and Wildlife Service

Laguna Cartagena National Wildlife Refuge, Boquerón, PR

AGENCY: Fish and Wildlife Service, Interior.

ACTION: Notice of intent to prepare a comprehensive conservation plan and environmental assessment; request for comments.

SUMMARY: We, the Fish and Wildlife Service, intend to gather information necessary to prepare a comprehensive conservation plan and associated environmental documents for the Laguna Cartagena National Wildlife Refuge. We furnish this notice in compliance with our comprehensive conservation planning policy to advise other agencies and the public of our intentions, and to obtain suggestions and information on the scope of issues to be considered in the planning process.

DATES: To ensure consideration, we must receive your written comments by June 15, 2007.

ADDRESSES: Send your comments or requests for more information to Ms. Susan Silander, Refuge Manager, Caribbean Islands National Wildlife Refuge Complex, P.O. Box 510, Boquerón, PR 00622; Telephone: 787/851-7258; or electronically to: susan_silander@fws.gov.

SUPPLEMENTARY INFORMATION: With this notice, we initiate the comprehensive conservation plan for Laguna Cartagena National Wildlife Refuge with headquarters in Boquerón, Puerto Rico.

The National Wildlife Refuge System Administration Act of 1966, as amended by the National Wildlife Refuge System Improvement Act of 1997 (16 U.S.C. 668dd-668ee), requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

We establish each unit of the National Wildlife Refuge System with specific purposes. We use these purposes to develop and prioritize management goals and objectives within the National Wildlife Refuge System mission, and to guide which public uses will occur on this refuge. The planning process is a way for us and the public to evaluate management goals and objectives for the best possible conservation efforts of this important wildlife habitat, while providing for wildlife-dependent recreation opportunities that are compatible with the refuge's establishing purposes and the mission of the National Wildlife Refuge System.

We will conduct a comprehensive conservation planning process that will provide opportunity for Tribal, State, and local governments; agencies; organizations; and the public to participate in issue scoping and public comment. We request input for issues, concerns, ideas, and suggestions for the management of the Laguna Cartagena National Wildlife Refuge in Boquerón, Puerto Rico. We invite anyone interested to respond to the following two questions:

1. What problems or issues do you want to see addressed in the comprehensive conservation plan?

2. What improvements would you recommend for the Laguna Cartagena National Wildlife Refuge?

We have provided the above questions for your optional use; you are not required to provide information to us. Our Planning Team developed these questions to gather information about individual issues and ideas concerning this refuge. Our Planning Team will use comments it receives as part of the planning process; however, we will not reference individual comments in our reports or directly respond to them.

We will also give the public an opportunity to provide input at an open house and public scoping meetings during 2007, to identity issues to be addressed in the plan. These events will be advertised through local media outlets. You may also submit comments anytime during the planning process by writing to the address in the ADDRESSES section. All information provided voluntarily by mail, phone, or at the public meetings becomes part of our official record (i.e., names, addresses, letters of comment, input recorded during meeting).

We will conduct the environmental review of this project in accordance with the requirements of the National Environmental Policy Act of 1969, as amended (42 U.S.C. 4321 et seq.); NEPA Regulations (40 CFR parts 1500-1508); other appropriate Federal laws and regulations; and our policies and procedures for compliance with those regulations. All comments we receive on our environmental assessment become part of the official public record. We will handle requests for such comments in accordance with the Freedom of Information Act, NEPA [40 CFR 1506.6(f)], and other Departmental and Service policies and procedures. When we receive a request, we generally will provide comment letters with the names and addresses of the individuals who wrote the comments.

The Laguna Cartagena National Wildlife Refuge was established in 1989 through a lease agreement with the Commonwealth of Puerto Rico. The present lagoon is a remnant of what was once a large open expanse of water and one of the most important freshwater habitats for migrating waterfowl and aquatic birds in Puerto Rico. Due to agricultural practices, about 90 percent of the lagoon is covered with cattail. In addition to the lagoon, there are uplands that include pastureland, abandoned sugar cane fields, and 263 acres in the foothills of the Sierra Bermeja. The total area of the refuge is 1,059 acres. The refuge objectives are to restore and maintain this locally important wetland ecosystem for the benefit of endangered species and migratory birds. These issues and the objectives along with others identified during the scoping process will be addressed during the development of the Draft CCP/EA.

Authority: This notice is published under the authority of the National Wildlife Refuge System Improvement Act of 1997, Public Law 105-57.

Dated: February 8, 2007.
Cynthia K. Dohner,
Acting Regional Director.

Editorial Note: This document was received in the Office of the Federal Register on May 11, 2007.

[FR Doc. E7-9403 Filed 5-15-07; 8:45 am]

BILLING CODE 4310-55-P